INTERNATIONAL TRADE COMMISSION

[Investigation Nos. 731-TA-1505-1507, 1510-1511, 1513, and 1515 (Final)]

Prestressed Concrete Steel Wire Strand From Indonesia, Italy, Malaysia, South Africa, Spain, Tunisia, and Ukraine

Determinations

On the basis of the record ¹ developed in the subject investigations, the United States International Trade Commission (“Commission”) determines, pursuant to the Tariff Act of 1930 (“the Act”), that an industry in the United States is materially injured by reason of imports of prestressed concrete steel wire strand (“PC strand”) from Indonesia, Italy, Malaysia, South Africa, Spain, Tunisia, and Ukraine, provided for in subheading 7312.10.30 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² The Commission also finds that imports subject to Commerce's affirmative critical circumstances determination are not likely to undermine seriously the remedial effect of the antidumping duty order on Indonesia.

Background

The Commission instituted these investigations effective April 16, 2020, following receipt of petitions filed with the Commission and Commerce by Insteel Wire Products Company, Mount Airy, North Carolina, Sumiden Wire Products Corporation, Dickson, Tennessee, and Wire Mesh Corporation, Houston, Texas with regard to imports of PC strand from 15 countries. The final phase of the investigations was scheduled by the Commission following notification of preliminary determinations by Commerce that imports of PC strand from Turkey were subsidized within the meaning of section 703(b) of the Act (19 U.S.C. 1671b(b)) and that imports of PC strand from Argentina, Colombia, Egypt, Netherlands, Saudi Arabia, Taiwan, Turkey, and the United Arab Emirates were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of October 8, 2020 (85 FR 63576). In light of the restrictions on access to the Commission building due to the COVID-19 pandemic, the Commission conducted its hearing through written testimony and video conference on December 10, 2020. All persons who requested the opportunity were permitted to participate.

The investigations became staggered when Commerce: (i) Postponed the final determinations for its antidumping duty investigations regarding PC strand from Indonesia, Italy, Malaysia, South Africa, Spain, Tunisia, and Ukraine; and (ii) reached earlier final antidumping and countervailing duty determinations concerning PC strand from Argentina, Colombia, Egypt, Netherlands, Saudi Arabia, Taiwan, Turkey, and the United Arab Emirates. On January 25, 2021, the Commission issued final affirmative determinations in its antidumping and countervailing duty investigations of PC strand from Argentina, Colombia, Egypt, Netherlands, Saudi Arabia, Taiwan, Turkey, and the United Arab Emirates (86 FR 7564, January 29, 2021). Following notification of final determinations by Commerce that imports of PC strand from Indonesia, Italy, Malaysia, South Africa, Spain, Tunisia, and Ukraine were being sold at LTFV within the meaning of section 735(a) of the Act (19 U.S.C. 1673d(a)),³ notice of the supplemental scheduling of the final phase of the Commission's antidumping duty investigations with respect to Indonesia, Italy, Malaysia, South Africa, Spain, Tunisia, and Ukraine was given by posting copies of the notice in the Office of the Secretary, U.S. International Trade Commission, Washington, DC, and by publishing the notice in the Federal Register on April 21, 2021 (86 FR 20711).

³ Prestressed Concrete Steel Wire Strand From Indonesia: Final Affirmative Determination of Sales at Less Than Fair Value, and Final Affirmative Determination of Critical Circumstances, In Part, 86 FR 18495, April 9, 2021; Prestressed Concrete Steel Wire Strand From Italy: Final Affirmative Determination of Sales at Less Than Fair Value, and Final Negative Determination of Critical Circumstances, 86 FR 18505, April 9, 2021; Prestressed Concrete Steel Wire Strand From Malaysia: Final Affirmative Determination of Sales at Less Than Fair Value, 86 FR 18502, April 9, 2021; Prestressed Concrete Steel Wire Strand From South Africa: Final Affirmative Determination of Sales at Less Than Fair Value, 86 FR 18497, April 9, 2021; Prestressed Concrete Steel Wire Strand From Spain: Final Affirmative Determination of Sales at Less Than Fair Value and Final Negative Determination of Critical Circumstances, 86 FR 18512, April 9, 2021; Prestressed Concrete Steel Wire Strand From Tunisia: Final Affirmative Determination of Sales at Less Than Fair Value, 86 FR 18508, April 9, 2021; Prestressed Concrete Steel Wire Strand From Ukraine: Final Affirmative Determination of Sales at Less Than Fair Value, and Final Negative Determination of Critical Circumstances, 86 FR 18498, April 9, 2021.

The Commission made these determinations pursuant to § 735(b) of the Act (19 U.S.C. 1673d(b)). It completed and filed its determinations in these investigations on May 24, 2021. The views of the Commission are contained in USITC Publication 5196 (May 2021), entitled Prestressed Concrete Steel Wire Strand from Indonesia, Italy, Malaysia, South Africa, Spain, Tunisia, and Ukraine: Investigation Nos. 731-TA-1505-1507, 1510-1511, 1513, and 1515 (Final).

By order of the Commission.
Issued: May 25, 2021.
Lisa Barton,
Secretary to the Commission.

[FR Doc. 2021-11332 Filed 5-27-21; 8:45 am]

BILLING CODE 7020-02-P